INTERNATIONAL TRADE COMMISSION

[Investigation Nos. 731-TA-929-931 (Third Review)]

Silicomanganese from India, Kazakhstan, and Venezuela

Determination

On the basis of the record ¹ developed in the subject five-year reviews, the United States International Trade Commission (“Commission”) determines, pursuant to the Tariff Act of 1930 (“the Act”), that revocation of the antidumping duty orders on silicomanganese from India, Kazakhstan, and Venezuela would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on September 4, 2018 (83 FR 44898) and determined on December 10, 2019, that it would conduct expedited reviews (84 FR 8544, March 8, 2019).

The Commission made these determinations pursuant to section 751(c) of the Act (19 U.S.C. 1675(c)). It completed and filed its determinations in these reviews on April 17, 2019.² The views of the Commission are contained in USITC Publication 4881 (April 2019), entitled Silicomanganese from India, Kazakhstan, and Venezuela: Investigation Nos. 731-TA-929-931 (Third Review).

² Due to the lapse in appropriations and ensuing cessation of Commission operations, all import injury reviews conducted under authority of title VII of the Act accordingly have been tolled pursuant to 19 U.S.C. 1675(c)(5).

By order of the Commission.
Issued: April 17, 2019.
Lisa Barton,
Secretary to the Commission.

[FR Doc. 2019-08068 Filed 4-22-19; 8:45 am]

BILLING CODE 7020-02-P